FEDERAL TRADE COMMISSION

16 CFR Part 305

[RIN 3084-AB03]

APPLIANCE LABELING RULE

AGENCY: Federal Trade Commission.

ACTION: Final rule; correction.

SUMMARY: The Federal Trade Commission (“Commission”) is issuing a technical correction to a final rule published on July 19, 2010 (75 FR 41696). In particular, the Commission is correcting text in Sample Label 13 in Appendix L published on page 41724 of that document.

EFFECTIVE DATE: July 19, 2011.

FOR FURTHER INFORMATION CONTACT: Hampton Newsome, Attorney, Division of Enforcement, Bureau of Consumer Protection, Federal Trade Commission, Washington, D.C. 20580 (202-326-2889).

SUPPLEMENTARY INFORMATION: This Notice contains a technical correction to Sample Label 13 in Appendix L in 16 CFR Part 305 published on July 19, 2010 (75 FR 41696). In particular, this Notice contains revised Spanish language text in that sample label which reads “Costo Estimado Anual de Energía” instead of “Costo Anual Estimado;” “de la tarifa” instead of “del indice;” “cálida” and “fría” instead of “cálido” and “frio;” and “desecho seguro” instead of “eliminación segura.”

Correction of Publication

In FR Doc. 2010-16895 appearing on page 41696 in the Federal Register of Monday, July 19, 2010, the following correction is made:

Appendix L, Sample Label 13 [Corrected]

On page 41724, the label image “Sample Label 13” is revised to read:

BILLING CODE 6750-01-S

SAMPLE LABEL 13

LIGHTING FACTS LABEL FOR GENERAL SERVICE LAMP CONTAINING MERCURY (BILINGUAL EXAMPLE)

By direction of the Commission.

Donald S. Clark,
Secretary.

[FR Doc. 2010-20322 Filed 8-13-10; 10:36 am]

BILLING CODE 6750-01-C